DEPARTMENT OF ENERGY

Federal Energy Regulatory Commission

[Docket No. RM00-12-000]

Electronic Filing of Documents; Notice of New Release for Electronic Filing

September 5, 2003.

Take notice that on Wednesday, September 10, 2003, at 7 pm, the Commission will upgrade its Electronic Filing System to Version 5.0. The new release is a major rewrite of the existing system and is now part of the Commission's FERC Online suite of applications.

User names and passwords for the existing system are not valid in Version 5.0. Current and prospective users of the e-Filing System must create an account using the Commission's eRegistration system, unless they have previously eRegistered. Document signers are also encouraged to eRegister. The instructions for creating an account, or editing an existing account so that it can be used for e-Filing, are attached to this notice. All eRegistrants will be able to logon to FERC Online using their e-mail address and password. The User Guide for Version 5.0 is also attached to this notice.

The functionality of Version 5.0 is similar to earlier versions, but there are modifications in the appearance and operation of the screens. Due to the magnitude of these changes, there are no new filing types for e-Filing in this release.

The e-Filing screens are consistent with the Commission's new Web design template. The on-screen Help links are specific to each screen.

The number of unzipped files that may be submitted in one session has been increased from five files to ten files. The size limit for each file remains 10 Mb.

Finally, documents submitted via e-Filing are still limited to those in the public domain. Do not submit Privileged, Protected, Critical Energy Infrastructure (CEII) or Non-Internet Public (NIP) information through the e-Filing system.

Questions about this notice may be directed to Brooks Carter at 202-502-8145, or by e-mail to brooks.carter@ferc.gov. If you need assistance using Version 5.0, e-mail FERCOnlineSupport@ferc.gov or call 1-866-208-3676 (toll free), 202-502-6652 (local).

Magalie R. Salas,
Secretary.

[FR Doc. 03-23376 Filed 9-12-03; 8:45 am]

BILLING CODE 6717-01-P